INTERNATIONAL TRADE COMMISSION

[Inv. No. 337-TA-435]

In the Matter of Certain Integrated Repeaters, Switches, Transceivers, and Products Containing Same; Notice of Commission Determination Not To Review an Initial Determination Granting Complainants' Motion for Summary Determination That They Satisfy the Economic Prong of the Domestic Industry Requirement

AGENCY: U.S. International Trade Commission.

ACTION: Notice.

SUMMARY: Notice is hereby given that the U.S. International Trade Commission has determined not to review the presiding administrative law judge's (“ALJ's”) initial determination (“ID”) granting complainants' motion for summary determination that they satisfy the economic prong of the domestic industry requirement of 19 U.S.C. § 1337(a)(3).

FOR FURTHER INFORMATION CONTACT: Timothy P. Monaghan, Esq., Office of the General Counsel, U.S. International Trade Commission, 500 E Street, SW., Washington, DC 20436, telephone 202-205-3152.

SUPPLEMENTARY INFORMATION: The Commission instituted this patent-based section 337 investigation on August 17, 2000, based on a complaint filed by Intel Corp. (“Intel”) and Level One Communications, Inc. (“Level One”). The respondent named in the investigation is Altima Communications, Inc. (“Altima”).

On March 16, 2001, complainants Intel and Level One moved pursuant to Commission rule 210.18 for summary determination that they satisfy the economic prong of the domestic industry requirement of section 337 for U.S. Letters Patent Nos. 5,608,341 and 5,742,603. The Commission investigative attorney supported the motion. Altima opposed the motion.

On March 16, 2001, the ALJ granted the motion for summary determination. No petitions for review were filed.

This action is taken under the authority of section 337 of the Tariff Act of 1930, as amended, 19 U.S.C. 1337, and Commission rule 210.42, 19 C.F.R. 210.42. Copies of the public version of the ALJ's ID and all other nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov)._ The public record for this investigation may be viewed on the Commission's electronic docket (EDIS-ON-LINE) at http://dockets.usitc.gov/eol/public.

Issued: April 2, 2001.
By order of the Commission.
Donna R. Koehnke,
Secretary.

[FR Doc. 01-8584 Filed 4-6-01; 8:45 am]

BILLING CODE 7020-02-P